DEPARTMENT OF DEFENSE

Department of the Army, Corps of Engineers

Withdrawal of Notice of Intent (NOI) To Prepare a Draft Environmental Impact Statement for the Jackson Township 900 Project in Sacramento County, California

AGENCY: Corps of Engineers, Department of the Army, DoD.

ACTION: Notice of Intent; withdrawal.

SUMMARY: The U.S. Army Corps of Engineers, Sacramento District (Corps) is issuing this notice to advise Federal, State and local governmental agencies and the public that the Corps is withdrawing the Notice of Intent (NOI) to prepare an Environmental Impact Statement (EIS) for the Jackson Township 900 Project in Sacramento County, California, which was published in the Federal Register on October 14, 2011.

DATES: The notice of intent to prepare an EIS published in the Federal Register on October 14, 2011 (76 FR 63911), is withdrawn as of July 3, 2025.

ADDRESSES: U.S. Army Corps of Engineers, Sacramento District, 1325 J Street, Suite 860, Sacramento, California 95814.

FOR FURTHER INFORMATION CONTACT: Questions concerning this notice should be directed to Regulatory Permit Specialist, Leah M. Fisher at (916) 557-6639 or Leah.M.Fisher@usace.army.mil.

Please refer to identification number SPK-2004-00791.

SUPPLEMENTARY INFORMATION: An NOI to prepare an EIS for the Jackson Township 900 Project was published in the Federal Register on October 14, 2011 (76 FR 63911). The proposed project requires Department of the Army (Corps) authorization under Section 404 of the Clean Water Act. Since publication of the NOI, the U.S. Fish and Wildlife published a Final EIS for the South Sacramento Habitat Conservation Plan (SSHCP) in the Federal Register on May 15, 2018 (83 FR 22510), for which the Corps was a cooperating agency. Utilizing the Final SSHCP EIS, the Corps developed a Permit Strategy for activities in waters of the United States covered by the SSHCP, including the approval of an in-lieu fee program to meet compensatory mitigation requirements. The proposed project falls within the SSCHP plan area and was incorporated into the Final EIS for the SSHCP. These actions demonstrate that the proposed project is most likely suited for the Corps' SSHCP Letter of Permission procedure for activities with more than minimal but less than significant effects on the human environment. Therefore, the Corps is terminating the EIS process, in accordance with 33 CFR part 230, Appendix C(2) and 33 CFR part 325, Appendix B(8)(g).

Tambour L. Eller,
Programs Director, South Pacific Division.

[FR Doc. 2025-12472 Filed 7-2-25; 8:45 am]

BILLING CODE 3720-58-P